DEPARTMENT OF ENERGY

Request for Information Regarding Establishment of the Department of Energy Uranium Reserve Program

AGENCY: National Nuclear Security Administration, Department of Energy.

ACTION: Request for information (RFI).

SUMMARY: The U.S. Department of Energy (DOE or the Department) is issuing this RFI to invite public comment on topics related to establishment of the DOE's Uranium Reserve program.

DATES: Written comments and information are requested on or before September 10, 2021.

ADDRESSES: Interested persons may submit comments by any of the following methods:

Email: rfi-uranium@hq.doe.gov. Submit electronic comments in Microsoft Word or PDF file format and avoid the use of special characters or any form of encryption. Please include “Response to Uranium Reserve RFI” in the subject line.

Postal Mail: Response to Uranium Reserve RFI, c/o Mr. Kyle Fowler, U.S. Department of Energy, National Nuclear Security Administration, Mailstop NA-10, 1000 Independence Avenue SW, Washington, DC 20585-0121.

Online: Responses will be accepted online at https://www.regulations.gov.

Instructions: All submissions received must include the agency name for this request for information. No facsimiles (faxes) will be accepted.

Note: The Government has posted a parallel RFI to SAM.gov in order invite industry comment on topics related to establishment of the DOE's Uranium Reserve program. To avoid duplicate submissions, interested parties are encouraged to only respond to one of the notices.

FOR FURTHER INFORMATION CONTACT: Requests for further information should be sent to: rfi-uranium@hq.doe.gov or Mr. Kyle Fowler, (202) 586-1963. If responding by email, please include “Question on Uranium Reserve RFI” in the subject line.

SUPPLEMENTARY INFORMATION:

Background

In the United States (U.S.), nuclear energy provides more than 55 percent of our clean energy and supports about half a million American jobs. However, the U.S. nuclear industry and the nuclear fuel supply chain face significant challenges that have left domestic nuclear fuel suppliers in a weakened position on the domestic and global stage. Revitalizing the U.S. nuclear fuel supply infrastructure would support the Administration's goals described in the American Jobs Plan,¹ including addressing the climate crisis, creating American jobs, positioning the U.S. to compete with economic rivals, and supporting national security. It would support environmental justice initiatives, prioritize addressing long-standing and persistent racial injustice by targeting 40 percent of the benefits of climate and clean infrastructure investments to disadvantaged communities, consider rural communities and communities impacted by the market-based transition to clean energy, and include meaningful stakeholder engagement.

¹ https://www.whitehouse.gov/briefing-room/statements-releases/2021/03/31/fact-sheet-the-american-jobs-plan/

In December 2020, Congress passed the Consolidated Appropriations Act, 2021 (Pub. L. 116-260) that makes $75,000,000 available to the Department for the Uranium Reserve Program. The Department is considering options to acquire natural uranium and convert this uranium into uranium hexafluoride that would be stored at commercial facilities in the United States.

In considering options, the Department will focus on reinvigorating domestic nuclear fuel supply chain capabilities, utilizing existing facilities, and minimizing negative disruption of market mechanisms. The Department expects the acquisition of natural uranium to result in new uranium production at existing domestic sites. The Department does not intend such new production to initiate or expand mining on Tribal lands, expand the Office of Legacy Management's (LM) Uranium Leasing Program, or expand access to additional uranium deposits located on other Federal lands. Additionally, the Department does not intend to acquire uranium or uranium hexafluoride produced from enricher underfeeding, the re-enrichment of tails, or other sources that do not support the reinvigoration of uranium production and conversion capabilities. Likewise, the Department expects to use existing domestic commercial conversion capabilities and store the uranium hexafluoride at a domestic facility.

The Department will comply with all applicable laws, including the National Environmental Policy Act and the National Historic Preservation Act, in the proposed establishment of a uranium reserve. In addition, the Department will give careful attention to energy justice, distributive impacts, and other relevant issues in its decision-making process. This program would include meaningful engagement with stakeholders, including State, local, Tribal governments, and disadvantaged communities.

The Department is publishing this RFI to gain a better understanding of Tribal and other disadvantaged communities and stakeholder views on topics related to the establishment of a uranium reserve. Responses to the RFI will inform the Department's establishment of a uranium reserve, as well as the development of a procurement strategy for acquisition of uranium, conversion services, and storage.

Specific Questions on Which Information Is Requested

The Department is seeking public comment on the following questions related to the establishment of a uranium reserve and the development of a procurement strategy for acquiring uranium, conversion services, and storage for the uranium. Please provide data, analyses, or other justifications for all responses.

General Questions

(1) How can the establishment of a uranium reserve be structured to:

Incentivize the production of uranium from domestic sources and the maintenance of domestic conversion services,

Support the Administration's goals described in the American Jobs Plan, and

Promote energy justice, including consideration of community needs and distribution of benefits pursuant to the Justice40 Initiative? ²

² https://www.whitehouse.gov/briefing-room/presidential-actions/2021/01/27/executive-order-on-tackling-the-climate-crisis-at-home-and-abroad/.

(2) How do you envision reinvigorating the domestic nuclear fuel supply chain as being responsive to the President's Justice40 Initiative—a plan to deliver 40 percent of the overall benefits of climate investments to disadvantaged communities and inform equitable research, development, and deployment within the DOE? Please provide specific actions, the type of benefit (i.e. employment, educational opportunities, etc.) and targeted communities that would be responsive.

(3) What siting and environmental justice concerns should the Department consider in the management of any waste generated through establishment of a uranium reserve? Please provide specific concerns, (e.g., siting, transportation, exposure, and other human health impacts, including knowledge of the potential impacts of exposure to the hazards associated with uranium production).

(4) Are there additional factors or considerations that should be taken into account regarding the establishment of a uranium reserve?

Limitations and/or Restrictions

The Department is considering the following factors as we develop our approach to acquire and convert natural uranium and to store uranium hexafluoride in commercial facilities:

Uranium must be newly-produced in the U.S. from deposits at an existing site; uranium that was produced previously that is currently held in inventory will not be eligible.

Uranium newly-produced from “alternate feed” materials are eligible to be bid for sale.

Provision of uranium must not require (1) initiation or expansion of mining on Tribal lands; (2) expansion of the Office of Legacy Management's Uranium Leasing Program; or (3) expansion of access to additional uranium deposits located on other Federal lands.

Provision of conversion services must utilize existing domestic commercial facilities.

The entity providing uranium, conversion services, or storage must be U.S.-owned or controlled.

Uranium and conversion services must not carry any peaceful-use or end-use restrictions.

(5) Do the limitations/restrictions support the Department's objective to incentivize the production of U.S. uranium and conversion services? Why or why not?

(6) Should any of these limitations/restrictions be modified or eliminated? Include your justification for any modification or elimination.

(7) Please describe any additional limitations/restrictions (other than cost) that you believe the Department should consider and include your justification.

Additional factors for consideration:

(8) Please describe any additional considerations (other than cost) that you believe the Department should consider and include your justification.

(9) Please describe any legal, regulatory, and policy issues, including environmental justice concerns, that should be addressed to enable the implementation of the Uranium Reserve Program under the Consolidated Appropriations Act, 2021 (Pub. L. 116-260).

(10) To what extent should the Department prioritize support for multiple suppliers?

Should the Department impose limitations on the procurement of uranium from a single company?

If so, should the limits be percentage-based or based on an absolute quantity maximum?

Submission of Comments

DOE invites all interested parties to submit in writing by 30 days from the publication of this RFI or by September 10, 2021, comments and information on matters addressed in this RFI. Any information that may be business proprietary and exempt by law from public discourse should be submitted as described in Section IV. Business Proprietary Information.

Business Proprietary Information

Pursuant to 10 CFR 1004.11, any person submitting information he or she believes to be business proprietary and exempt by law from public disclosure should submit via email, or postal mail two well-marked copies: One copy of the document marked “Business Proprietary” including all the information believed to be proprietary, and one copy of the document marked “non-Proprietary” with the information believed to be business proprietary deleted. DOE will make its own determination about the business proprietary status of the information and treat it according to its determination. Factors of interest to DOE when evaluating requests to treat submitted information as business proprietary include: (1) A description of the items; (2) whether and why such items are customarily treated as business proprietary within the industry; (3) whether the information is generally known by or available from other sources; (4) whether the information has previously been made available to others without obligation concerning its business proprietary nature; (5) an explanation of the competitive injury to the submitting person which would result from public disclosure; (6) when such information might lose its business proprietary character due to the passage of time; and (7) why disclosure of the information would be contrary to the public interest.

Signing Authority

This document of the Department of Energy was signed on August 4, 2021, by Jill Hruby, Under Secretary for Nuclear Security and Administrator of the National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 4, 2021.
Treena V. Garrett,
Federal Register Liaison Officer, U.S. Department of Energy.

[FR Doc. 2021-17145 Filed 8-10-21; 8:45 am]

BILLING CODE 6450-01-P